DEPARTMENT OF EDUCATION

Notice of Proposed Information Collection Request

AGENCY: Department of Education.

ACTION: Correction notice.

SUMMARY: On August 27, 2009, the Department of Education published a comment period notice in the Federal Register (Page 43686, Column 3) for the emergency information collection, “I Am What I Learn.” The number burden hours is hereby corrected to 2,667. The Director, Regulatory Information Management Services, Office of Management, hereby issues a correction notice as required by the Paperwork Reduction Act of 1995.

Dated: August 28, 2009.
Angela C. Arrington,
Director, Information Collection Clearance Division, Regulatory Information Management Services, Office of Management.

[FR Doc. E9-21202 Filed 9-2-09; 8:45 am]

BILLING CODE P